DEPARTMENT OF HEALTH AND HUMAN SERVICES

Centers for Disease Control and Prevention

[Program Announcement 00089]

Health Promotion and Disease Prevention Research Center Cooperative Agreement; Notice of Availability of Funds

A. Purpose

The Centers for Disease Control and Prevention (CDC) announces the availability of fiscal year (FY) 2000 funds for a cooperative agreement program to fund a Health Promotion and Disease Prevention Research Center (PRC) at the University of Kentucky. CDC is committed to achieving the health promotion and disease prevention objectives of “Healthy People 2010,” a national activity to reduce morbidity and mortality and improve the quality of life. This announcement is related to the focus area of Educational and Community-Based Programs. For the conference copy of “Healthy People 2010”, visit the internet site http://www.health.gov/healthypeople. The purpose of the program is to support health promotion and disease prevention research that focuses on the major causes of death and disability and promote health practices that lead to more effective State and local programs.

Note: Background and CDC program objectives are provided in Attachment 1.

B. Eligible Applicants

Assistance will be provided only to the University of Kentucky, School of Medicine. No other applications are solicited.

C. Availability of Funds

Approximately $525,000 is available in FY 2000 to fund a Health Promotion and Disease Prevention Research Center in Kentucky. It is expected that the award will begin on or about September 30, 2000, and will be made for a 12-month budget period within a project period of up to three years. Funding estimates may change. Continuation awards within an approved project period will be made on the basis of satisfactory progress as evidenced by required reports and the availability of funds.

Direct Assistance

You may request Federal personnel, equipment, or supplies as direct assistance, in lieu of a portion of financial assistance (see Application Content).

D. Program Requirements

In conducting activities to achieve the purpose of this program, the recipient will be responsible for the activities under 1. (Recipient Activities), and CDC will be responsible for the activities under 2. (CDC Activities).

1. Recipient Activities

a. Select a research theme that will serve as a focus for Prevention Research activities for Appalachia.

b. Develop the administrative structure and recruit staff to implement a Prevention Research Center plan.

c. Conduct and evaluate a demonstration project in health promotion and disease prevention or preventive health services, within a defined community or special population. The project must reflect the needs of the community within the applicant's jurisdiction and show evidence of having used an appropriate planning process in determining project selection. Consistent with the discussion in the Background and CDC Program Objectives (See Attachment 1), the project should specify how the research project will heighten public health practice and advance research translation.

d. Establish an advisory committee to provide input on the major program activities. Membership may include but is not limited to a variety of local health-care providers, health and education agency officials, community leaders and organizers, and representatives of local businesses, churches, voluntary organizations, and consumers.

e. Establish collaborative activities with appropriate organizations, individuals, and State and local health departments.

f. Conduct applied community-based training in research methods to foster community involvement and build community capacity for participatory research. If appropriate, this training may include a distance-learning-based format.

g. Establish the capacity to implement and evaluate multi disciplinary, professional training programs in prevention research.

h. Establish a plan to ensure translation of results to appropriate constituencies.

2. CDC Activities

a. Collaborate as appropriate with the recipient in all stages of the project.

b. Provide programmatic and technical assistance.

c. Participate in improving program performance through consultation based on information and activities of other projects.

d. Provide scientific collaboration with grantee as necessary to meet program goals and objectives.

e. At the request of the applicant, assist with developing the curriculum, training, or conducting other specific necessary activities.

E. Application Content

Application

Use the information in the Program Requirements, Other Requirements, and Evaluation Criteria sections to develop the application content. The application will be evaluated on the criteria listed, so it is important to follow them in laying out the program plan. The narrative must not exceed 90 double-spaced pages, printed on one side, with one inch margins, and 12” font, excluding appendixes and PHS Form 398. Appendices must not exceed 25 pages and must be hard copy documents (i.e., no audiovisual materials, posters, etc.).

1. Research Theme

Identify a research theme and describe activities designed to focus on the theme that will result in innovative approaches to prevention research. Clearly identify the need of the partner community in Appalachia, and describe the PRC's experience working with communities on the identified research theme. The applicant may wish to refer to products from the Task Force Community Preventive Services when considering their research theme. (For detailed information, visit the Guide to Community Preventive Services on the Web at http://web.health.gov/communityguide). Examples of research themes from current Research Prevention Centers include:

a. Bridging the Gap Between Public Health Science and Practice in Underserved Populations.

b. Promoting the Health of Multiethnic Communities of the Southwest.

c. Putting Health Promotion into Action Community Collaboration.

d. Reduction of Excess Morbidity and Mortality in the Harlem Community.

e. Promoting Healthy Behavior and Disease Prevention in Native American Populations.

2. Prevention Research Center Plan

Submit a plan for a prevention research center serving Appalachia with clear goals, objectives, and activities, to include:

a. A description of goals and objectives for the budget period that are consistent with the research theme. Objectives should be specific, measurable, attainable, realistic and time-phased (SMART MODEL for objectives).

b. A description of the scope, methods of operation, evaluation, and a timeline for implementation.

c. A description of the use of other federal funds that will impact on stated program objectives.

d. A description of any financial and in-kind contributions from nonfederal sources.

e. Documentation describing the composition, membership, rationale for membership, and objectives for a Community Advisory Committee. Documentation of how the Advisory Committee will facilitate collaboration with community organizations, State and local health or education departments.

f. A description of plans for conducting community-based applied training.

g. A description of capacity to provide prevention research training for professionals.

h. Documentation of commitment to minority and underserved populations, or other defined populations or communities.

i. A description of significant factors which may favorably or adversely impact on program performance.

3. Management and Staffing Plan

Provide a management plan that includes a description of all organizational units and functions in the PRC. The plan should reflect the ability of the PRC to carry out the chosen research theme. Describe how the applicant will integrate the PRC within the parent institution. The following areas should be considered in developing a management and staffing plan:

a. Describe the PRCs personnel infrastructure.

b. Describe how proposed staffing will support center activity. Current resumes must be included.

c. Describe how the proposed staff meet the goal of establishing multidisciplinary prevention research centers.

d. No less than two full-time positions (FTE's) must be allocated for the following functions: (Percentages of an FTE may be used for several positions.)

(1) Scientific oversight: Accountable for center research and development, design, methodology, project evaluation, and publications.

(2) Community Development: Community liaison, advisory committee, community training activities, and community dissemination.

(3) Program and Project Management: Oversight of center supported research and Institutional Review Board (IRB) protocols, coordination of center studies, mentorship of junior investigators, dissemination activities, and professional training in prevention research.

(4) Center Administration: Responsible for communication with CDC's Prevention Research Centers Program staff and Procurement and Grants Office. Responsibilities will include submission of fiscal reports, fiscal tracking and reports, personnel, and center procurement.

4. Research Project

Submit a description of a research project that is consistent with the CDC PRC Program objectives and selected PRC theme. The narrative for specific project should contain:

a. A description of the research project including goals, objectives, timeline, research questions and target population.

b. A description of the research methods including methods for participant recruitment, data collection, evaluation design, and data analysis.

c. A description of the extent of community and other research collaborations in the proposed project.

d. A description of project staff (number and types of positions).

e. A project budget.

f. A description of the plans to translate research findings into public health practice or policy.

g. Does the application adequately address the requirements of Title 45 CFR part 46 for the protection of human subjects?

5. Evaluation Plan

Describe and plan a methodology to evaluate PRC program and activities with regard to program progress and process; fulfillment of outcome objectives; impact, and community involvement; the PRCs community-based objectives; and any other indicators, such as cost-benefit analyses. Specify staff responsible for the plan and their background and experience in evaluation research.

6. Budget Information

Provide a line-item budget and narrative justification for all requested costs that are consistent with the goals, objectives, and proposed research activities, to include:

a. Line-item breakdown and justification for all personnel, i.e., name, position title, annual salary, percentage of time and effort, and amount requested.

b. Line-item breakdown and justification for all contracts and consultants, to include:

(1) Name of contractor or consultant

(2) Period of performance

(3) Method of selection (e.g., competitive or sole source)

(4) Scope of work

(5) Method of accountability

(6) Itemized budget

c. Requests for direct assistance in the form of field assignees must also include the following:

(1) The number of assignees requested.

(2) A description of the position and proposed duties for each assignee.

(3) Justification for request.

(4) An organizational chart and the name of the intended supervisor.

(5) The availability of career-enhancing training, education, and research experience opportunities for the assignee(s).

(6) Assignee access to computer equipment for electronic communication between CDC headquarter's office and PRC.

d. A brief three-year budget projection should be submitted that clearly separates and distinguishes direct from indirect costs.

F. Submission and Deadline

Submit the original and five copies of the application PHS Form 398 (OMB Number 0925-0001) (adhere to the instructions on the Errata Instruction Sheet for PHS 398). Forms are available at the following Internet address: www.cdc.gov/ . . . Forms, or in the application kit. The application must be submitted on or before June 15, 2000. Submit the application to the Grants Management Specialist identified in the “Where to Obtain Additional Information” section of this announcement.

Deadline: The application shall be considered as meeting the deadline above if it is either:

(a) Received on or before the deadline date; or

(b) Sent on or before the deadline date. (Applicant must request a legibly dated U.S. Postal Service postmark or obtain a legibly dated receipt from a commercial carrier or the U.S. Postal Service. Private metered postmarks shall not be acceptable as proof of timely mailing.)

G. Evaluation Criteria

An external peer review panel will review the application using the following criteria:

(1) PRC Theme; (2) Center Plan; (3) Management and Staffing Plan; (4) Research Project; and (5) Evaluation. The Budget and Human Subjects sections are reviewed but not scored. The review panel will score the application overall, based on a 1-5 scale (with increments of 0.1) with 1=highest (best) and 5-lowest. The reviewers' scores are then averaged and multiplied by 100 to attain a priority score for the application. The review panel will also compile a summary and recommendations including the strengths and weaknesses of the application.

1. PRC Theme

To what extent does the research theme meet health priorities and emerging public health needs of identified communities or special groups?

2. Center Plan

(a) To what extent does the plan have objectives that are clear, specific, measurable, attainable, realistic and time-phased?

(b) Does the plan make effective use of both PRC and community resources to advance the PRC theme?

(c) Is the plan consistent with the PRC purpose, and does it include a three-year timeline?

(d) Does the plan describe the composition of a Community Advisory Committee and rationale for its membership, relevance and feasibility of committee objectives and its role within the PRC?

(e) Is a plan included to establish collaborative activities with appropriate organizations, individuals, State, and local health departments?

(f) Is a plan included to conduct community-based training in research methods to foster community involvement and build community capacity for participatory research?

(g) Does the plan contain a description of the Center's capacity for providing professional, multidisciplinary prevention research training in the area of health promotion and disease prevention?

3. Management and Staffing Plan

To what extent does the applicant demonstrate the ability, capacity, organizational structure, and staffing to carry out the overall theme, objectives, and specific project plans?

4. Research Project

(a) Does the applicant demonstrate an understanding of the community contexts, current scientific literature, as well as other information sources relevant to the proposed project?

(b) Are the conceptual framework, design, methods, analyses, and translation plan adequately developed, well-integrated, scientifically strong, and appropriate to the aims of the project?

(c) Does the proposed approach allow for flexibility or change in research methods or focus as necessary?

(d) Does the applicant acknowledge potential problem areas and consider alternative tactics?

(e) Is there an appropriate work plan included?

(f) Does the project include plans to measure progress toward achieving the stated objectives?

(g) Does the applicant propose research translation approaches or methods for findings from the project?

(h) The degree to which the applicant has met the CDC policy requirements regarding the inclusion of women, ethnic and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

5. Evaluation

To what extent are the plan and methodology proposed to evaluate the PRC program and activities with regard to program progress and process; fulfillment of outcome objectives; impact, and community involvement; the PRCs community-based objectives; and any other indicators, such as cost-benefit analyses feasible and of scientific merit?

6. Budget (Reviewed But Not Scored)

The extent to which the budget and justification are consistent with the program objectives and purpose.

7. Human Subjects (Reviewed But Not Scored)

Does the application adequately address the requirements of Title 45 CFR Part 46 for the protection of human subjects?

H. Other Requirements

Technical Reporting Requirements

Provide CDC with original plus two copies of:

1. progress reports (annual);

2. financial status report, not more than 90 days after the end of the budget period; and

3. final financial and performance reports, no more than 90 days after the end of the project period.

Send all reports to the Grants Management Specialist identified in the “Where to Obtain Additional Information” section of this announcement.

The following additional requirements are applicable to this program. For a complete description of each, see Attachment 2 in the application kit.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

I. Authority and Catalog of Federal Domestic Assistance Number

This program is authorized under sections 301(a), 317(k)(2) and 1706 [42 U. S. C. 241(a), 247b(k)(2) and 300 u-5] of the Public Health Service Act, as amended. The Catalog of Federal Domestic Assistance number is 93.135.

J. Where To Obtain Additional Information

To receive additional written information and to request an application kit, call 1-888-GRANTS4 (1-888-472-6874). You will be asked to leave your name and address and will be instructed to identify the Announcement number of interest.

If you have questions after reviewing the contents of all the documents, business management/technical assistance may be obtained from: Robert Hancock, Grants Management Specialist, Grants Management Branch, Procurement and Grants Office, Centers for Disease Control and Prevention (CDC), Room 3000, 2920 Brandywine Road, Atlanta, GA30341-4146 telephone (770) 488-2746, E-mail address: RNH2@cdc.gov

For program technical assistance, contact: Lynda Doll, Ph.D., Program Director, Prevention Research Centers Office, National Center for Chronic Disease Prevention and Health Promotion, Centers for Disease Control and Prevention (CDC), 4770 Buford Highway, NE, Atlanta, GA 30341-3724, telephone 404-488-5395, E-mail address: LSD1@cdc.gov

Dated: April 11, 2000.
John L. Williams,
Director, Procurement and Grants Office.

[FR Doc. 00-9455 Filed 4-14-00; 8:45 am]

BILLING CODE 4163-18-P